DEPARTMENT OF HEALTH AND HUMAN SERVICES

National Institutes of Health

Submission for OMB Review; Comment Request; Re-Contacting Participants in the Observing Protein and Energy Nutrition (Re-Open) Study

SUMMARY: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on May 6, 2003, page 24007 and allowed 60 days for public comment. No public comments were received. The purpose of this notice is to allow an additional 30 days for public comment. The National Institutes of Health may not conduct or sponsor, and the respondent is not required to respond to, an information collection that has been extended, revised, or implemented on or after October 1, 1995, unless it displays a currently valid OMB number.

Proposed Collection: Title: Re-contacting Participants in the Observing Protein and Energy Nutrition (Re-OPEN) Study. Type of Information Collection Request: Reinstatement with change (OMB #0925-0465, expiration 07/31/02). Need and Use of Information Collection: The agency conducts and funds studies examining the relationship between diet and chronic diseases. The study will collect food intake and physical activity data and body weight measurements on a cohort of approximately 482 free-living men and women, 43 to 72 years of age, who have participated in the 1999 Biologic Specimen-Based Study of Dietary Measurement Error for Nutritional Epidemiology and Surveillance. Participants will complete a food frequency questionnaire, two 4-day food intake records, one 7-day food intake checklist, a physical activity questionnaire, and a body weight measurement. The data will be used to assess the magnitude and structure of dietary measurement error in dietary assessment instruments for dietary surveillance and nutritional epidemiologic studies.

Frequency of Response: One-time study. Affected Public: Individuals or households. Type of Respondents: U.S. adults 43-72 years. The annual reporting burden is as follows:

Data collection task | Estimated number of respondents | Estimated number of responses per respondent | Average burden hours per response | Estimated total hour burden | Estimated total annual burden hours requested
Enrollment Form | 482 | 1 | 0.083 | 40 | 13
Food frequency questionnaire | 482 | 1 | 1 | 482 | 161
4-Day food record 1 | 482 | 1 | 1.332 | 642 | 214
4-Day food record 2 | 482 | 1 | 1.332 | 642 | 214
Food Checklist | 482 | 7 | .117 | 395 | 132
Physical activity questionnaire | 482 | 1 | .25 | 120 | 40
Weight measurement | 482 | 1 | .25 | 120 | 40
Total | 482 |  |  | 2443 | 814

The annualized cost to respondents is estimated at $13,024. There are no Capital Costs to report. There are no Operating and/or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology, and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Amy Subar, Ph.D., Project Officer, National Cancer Institute, EPN 313, 6130 Executive Blvd MSC 7344, Bethesda, MD 20892-7344, or call non-toll-free number (301) 496-8500, or FAX your request to (301) 435-3710, or E-mail your request, including your address, to: subara@mail.nih.gov.

Comments Due Date: Comments regarding this information collection are best assured of having their full effect if received within 30 days of the date of this publication.

Dated: September 2, 2003.
Reesa Nichols,
NCI Project Clearance Liaison.

[FR Doc. 03-22828 Filed 9-8-03; 8:45 am]

BILLING CODE 4140-01-M